FEDERAL COMMUNICATIONS COMMISSION

Federal Advisory Committee Act; Technological Advisory Council

AGENCY: Federal Communications Commission.

ACTION: Notice of renewal of the Technological Advisory Council's charter.

SUMMARY: The Federal Communications Commission (Commission) hereby announces that the charter of the Technological Advisory Council (hereinafter Committee) has been renewed pursuant to the Federal Advisory Committee Act (FACA).

FOR FURTHER INFORMATION CONTACT: Michael Ha, Deputy Chief, Policy and Rules Division 202-418-2099; michael.ha@fcc.gov.

SUPPLEMENTARY INFORMATION: On April 16, 2019, the General Services Administration approved renewal of the charter of the Committee pursuant to provisions of the FACA. The Commission intends to renew the charter on or before May 17, 2019 and provide the Committee with authorization to operate for two years from the effective date.

Rapid advances in technology have resulted in innovations in how telecommunications services are provided to, and are accessed by, users of those services. Many of these advances are increasing the rate of convergence among categories of services that have traditionally been viewed as distinct, such as cable television services, telephony, data services, and internet services. Regulations must be examined in light of these technology advances, and the Commission must remain abreast of new developments in technology so that it can effectively fulfill its responsibilities under the Communications Act.

The Committee provides recommendations to the Commission on the issues and questions presented to it by the FCC. The Committee will focus on key issues affecting the deployment of new broadband technologies and services seeking to spur opportunities for innovation, greater efficiencies, and job creation. The Committee will address questions referred to it through the Designated Federal Officer by the FCC Chairman, the Chief of the FCC Office of Engineering and Technology, or the FCC Chief Technology Officer. The questions referred to the TAC will be directed to technological and technical issues in the field of communications.

The Committee is organized under, and operates in accordance with, the provisions of the FACA. The Committee will be solely advisory in nature. Consistent with FACA and its requirements, each meeting of the Committee will be open to the public unless otherwise noticed. Records will be maintained of each meeting and made available for public inspection. All activities of the Committee will be conducted in an open, transparent, and accessible manner. The Committee shall terminate on May 17, 2021, or earlier upon the completion of its work as determined by the Chairman, unless its charter is renewed prior to the termination date.

The Committee will meet approximately three to five times per year in Washington, DC. The meetings of the TAC will be described in a Public Notice issued and published in the Federal Register at least fifteen (15) days prior to the first meeting date. In addition, as needed, working groups or subcommittees (ad hoc or steering) will be established to facilitate the Committee's work between meetings of the full Committee. All meetings, including those of working groups and subcommittees, will be fully accessible to individuals with disabilities.

Federal Communications Commission.
Marlene Dortch,
Secretary.

[FR Doc. 2019-09052 Filed 5-2-19; 8:45 am]

BILLING CODE 6712-01-P